DEPARTMENT OF COMMERCE

International Trade Administration

[A-570-898]

Chlorinated Isocyanurates From the People's Republic of China: Final Results of June 2008 Through November 2008 Semi-Annual New Shipper Review

AGENCY: Import Administration, International Trade Administration, Department of Commerce.

DATES: Effective Date: December 28, 2009.

SUMMARY: The Department of Commerce (“the Department”) is conducting a new shipper review (“NSR”) of the antidumping duty order on chlorinated isocyanurates from the People's Republic of China (“PRC”) covering the period June 1, 2008, through November 30, 2008. We invited interested parties to comment on our preliminary results. Based on our analysis of the comments received, we have made changes to our margin calculations. Therefore, the final results differ from the preliminary results.

FOR FURTHER INFORMATION CONTACT: Lilit Astvatsatrian or Charles Riggle, AD/CVD Operations, Office 8, Import Administration, International Trade Administration, U.S. Department of Commerce, 14th Street and Constitution Avenue, NW., Washington, DC 20230; telephone: (202) 482-6412 or (202) 482-0650, respectively.

Background

On July 27, 2009, the Department published its preliminary results of new shipper review of the antidumping order on chlorinated isocyanurates from the PRC. See Chlorinated Isocyanurates from the People's Republic of China: Preliminary Results of June 2009 through November 2008 Semi-Annual New Shipper Review, 74 FR 37007 (July 27, 2009) (“Preliminary Results”). On August 17, 2009, Clearon Corporation and Occidental Chemical Corporation (“Petitioners”), in the underlying investigation, provided additional information on the appropriate surrogate values to use as a means of valuing the factors of production. On October 8, 2009, the Department received case briefs from Petitioners and respondent Juancheng Kangtai Chemical Co., Ltd. (“Kangtai”). On September 15 and 30, 2009, Kangtai submitted its responses to the Department's September 1 and 25, 2009, supplemental questionnaires. On October 15, 2009, Petitioners and Kangtai filed rebuttal briefs. We have conducted this new shipper review in accordance with section 751(a)(2)(B) of the Tariff act of 1930, as amended (“the Act”), and 19 CFR 351.214.

Scope of the Order

The products covered by this order are chlorinated isocyanurates, as described below: Chlorinated isocyanurates are derivatives of cyanuric acid, described as chlorinated s-triazine triones. There are three primary chemical compositions of chlorinated isocyanurates: (1) Trichloroisocyanuric acid (Cl3(NCO)3), (2) sodium dichloroisocyanurate (dihydrate) (NaCl2(NCO)3·2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, 2933.69.6050, 3808.40.50, 3808.50.40 and 3808.94.50.00 of the Harmonized Tariff Schedule of the United States (“HTSUS”). The tariff classification 2933.69.6015 covers sodium dichloroisocyanurates (anhydrous and dehydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

Analysis of Comments Received

All issues raised in the post-preliminary comments by parties in this review are addressed in the memorandum from John M. Andersen, Acting Deputy Assistant Secretary for Antidumping and Countervailing Duty Operations, to Ronald K. Lorentzen, Deputy Assistant Secretary for Import Administration, “Issues and Decision Memorandum for the June 2008 through November 2008 Semi-Annual New Shipper Review of Chlorinated Isocyanurates from the People's Republic of China,” dated concurrently with this notice (“Issues and Decision Memorandum”), which is hereby adopted by this notice. A list of the issues that parties raised and to which we responded in the Issues and Decision Memorandum is attached to this notice as an appendix. The Issues and Decision Memorandum is a public document and is on file in the Central Records Unit (“CRU”) in room 1117 in the main Commerce Department building, and is also accessible on the Web at http://ia.ita.doc.gov/frn. The paper copy and electronic version of the memorandum are identical in content.

Changes Since the Preliminary Results

Based on our analysis of comments received, we have made changes in the margin calculation for Kangtai. See Issues and Decision Memorandum at Comments 1-3.

We calculated surrogate financial ratios based on the financial statements for Aditya Birla Chemicals (India) Limited, an Indian producer of comparable merchandise, for the fiscal year ending March 31, 2009. See Issues and Decision Memorandum at Comment 1 and the Final SV Memo.

We have revised Kangtai's steam coal value. See Issues and Decision Memorandum at Comment 2, Memorandum to the File titled “Analysis Memorandum for the Final Results: Juancheng Kangtai Chemical Company, Ltd.,” dated December 18, 2009, and Final SV Memo.

Final Results of Review

We determined that the following dumping margin exists for the period June 1, 2008, through November 30, 2008.

Exporter | Producer | Rate
Juancheng Kangtai Chemical Co., Ltd/Juancheng Ouya Chemical Co., Ltd | Juancheng Kangtai Chemical Co., Ltd./Juancheng Ouya Chemical Co., Ltd. | 20.54

Assessment Rates

The Department will determine, and U.S. Customs and Border Protection (“CBP”) shall assess, antidumping duties on all appropriate entries. For importers/customers of the respondent where the respondent did not report entered values, we have calculated importer/customer-specific antidumping duty assessment amounts based on the ratio of the total amount of antidumping duties calculated for the examined sales of subject merchandise to the total quantity of subject merchandise sold in those transactions. For importers/customers of the respondent where the respondent reported entered values, we have calculated an ad valorem rate for that importer/customer by dividing the total amount of antidumping duties calculated in the examined sales of subject merchandise by the total entered value of those transactions. The Department intends to issue assessment instructions to CBP 15 days after the date of publication of these final results of NSR.

Cash Deposit Requirements

The following cash deposit requirements will be effective upon publication of these final results of NSR for all shipments of the subject merchandise entered, or withdrawn from warehouse, for consumption on or after the publication date, as provided for by section 751(a)(2)(C) of the Act: (1) For shipments of subject merchandise produced and exported in the combinations listed above in the Final Results of Review section of this notice, the cash deposit rate will be the rate shown above; (2) for shipments of subject merchandise exported by Kangtai or Juancheng Ouya Chemical Co., Ltd. (“Ouya”) but not produced by either of these companies, the cash deposit rate will be the PRC-wide rate of 285.63 percent; (3) for shipments of subject merchandise produced by Kangtai or Ouya but exported by any party other than Kangtai or Ouya, the cash deposit rate will be the rate applicable to the exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed for these final results within five days of the date of publication of this notice to interested parties in accordance with 19 CFR 351.224(b).

We are issuing and publishing these final results and notice in accordance with sections 751(a)(2)(B), 751(a)(2)(C), and 777(i)(1) of the Act and 19 CFR 351.221(b)(5).

Dated: December 17, 2009.
Ronald K. Lorentzen,
Deputy Assistant Secretary for Import Administration.

Appendix

List of Comments and Issues in the Issues and Decision Memorandum

Comment 1: Surrogate Financial Statements

Comment 2: Surrogate Value for Steam Coal

Comment 3: Affiliation and Collapsing of Kangtai and Ouya

[FR Doc. E9-30687 Filed 12-24-09; 8:45 am]

BILLING CODE 3510-DS-P